DEPARTMENT OF THE INTERIOR

Fish and Wildlife Service

Notice of Intent To Prepare an Environmental Impact Statement/Environmental Impact Report on the Restoration and Management Plan for Bair Island, Don Edwards San Francisco Bay National Wildlife Refuge, San Mateo County, CA, and Announcement of Public Scoping Meeting

AGENCY: Fish and Wildlife Service, Interior.

ACTION: Notice; correction.

SUMMARY: The Fish and Wildlife Service published a document in the Federal Register of March 27, 2000, concerning a request for comments on the scope and content of the Restoration and Management Plan for Bair Island and EIS/EIR. This document contained an incorrect date for the comment period.

FOR FURTHER INFORMATION CONTACT: Clyde Morris, Refuge Manager, Don Edwards San Francisco Bay National Wildlife Refuge, Newark, California, telephone (510) 792-0222.

Correction

In the Federal Register of March 27, 2000, in FR Doc. 00-7168, on page 16217, in the second column, correct the “Dates” caption to read:

DATES: A public scoping meeting will be held on April 27, 2000, from 7 p.m. to 9 p.m., see addresses for location. Written comments related to the scope and content of the Restoration and Management Plan and EIS/EIR should be received by the Service at the Newark address below by May 12, 2000.

Dated: March 29, 2000.
Toni Deery,
Manager, California/Nevada Operations Sacramento, California.

[FR Doc. 00-8367 Filed 4-6-00; 8:45 am]

BILLING CODE 4310-55-P